DEPARTMENT OF COMMERCE

Economic Development Administration

Notice of Petitions by Firms for Determination of Eligibility to Apply for Trade Adjustment Assistance

AGENCY: Economic Development Administration, Department of Commerce

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility to Apply for Trade Adjustment
2/26/2010 through 3/4/2010
Firm | Address | Date accepted for filing | Products
API Heat Transfer Inc. Buffalo | 2777 Walden Ave Ave Buffalo, NY 14225 | 2/26/2010 | The Company manufactures shell and tube, aluminum air cooled and plate and frame heat exchangers for industrial thermal transfer needs for a broad range of industries.
Harlon's LA Fish, LLC d/b/a LA Fish | 606 Short Street Kenner, LA 70062 | 2/26/2010 | Processor of frozen fish for human consumption
Silberline Manufacturing Co., Inc | 130 Lincoln Drive Tamaqua, PA 18252 | 2/26/2010 | Silberline manufactures special effect and performance pigments.
Fluorolite Plastics, Inc | 2 Central Street Framingham, MA 01701 | 3/1/2010 | Fluorolite specializes in replacement fluorescent diffusers. Fluorolite Manufactures acrylic ceiling panels, prismatic sheet, diffuser profiles, fluorescent light shields, enclosed gasket fixtures, Lexalite, American Louver products, and outdoor polycarbonate lenses.
Fresh Air Manufacturing Compnay d/b/a FAMCO | 649 N Ralstin Street Meridian, ID 83642 | 3/1/2010 | FAMCO is a light duty manufacturer of sheet metal and plastic products for venting units for residential and some small commercial facilities.
Greene Plastics Company | PO Box 178 Canonchet Hope Valley, RI 02832 | 3/2/2010 | Plastic beads and imitation gemstones are manufactured by injection molding using plastic, polystyrene and acrylic.
Petoskey Plastics, Incorporated | One Petoskey Street Petoskey, MI 49770 | 3/2/2010 | The firm manufacturers polyethylene blown film products.
Arthur A. Oliver & Son, Inc | PO Box 88, 2406 English High Point, NC 27261 | 3/3/2010 | The firm produces upholstery supplies including cardboard, fiber batting, and webbing products. Primary materials include paper, and polyester fiber.
Heritage Sign & Display, Inc | 344 Industrial Road Nesquehoning, PA 18240 | 3/3/2010 | Heritage is a custom manufacturer of point of purchase signs and displays. Our products include lighted signs, wood displays, acrylic displays and a host of others.
Kasten Clay Products, Inc | 713 Kasten Drive Jackson, MO 53755 | 3/3/2010 | The firm manufacturers and produces clay bricks.
Precision Tool, Die & Machine Co. Inc. d/b/a nth works | 6901 Preston Highway Louisville, KY 40219 | 3/3/2010 | The firm produces steel parts that are put through stamping, welding, & graining processes. Primary materials include steel.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: March 5, 2010.
Bryan Borlik,
Program Director.

[FR Doc. 2010-5216 Filed 3-10-10; 8:45 am]

BILLING CODE 3510-24-P